DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project, on State Route 12 between postmiles 20.57 and 26.41 near the town of Rio Vista in the County of Solano, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 14, 2020. If the Federal law that authorizes judicial review of a claim provides a time period of less than 150 days for filing such claim, then that shorter time period still applies.

FOR FURTHER INFORMATION CONTACT: For Caltrans: Zach Gifford, Senior Environmental Planner, California Department of Transportation, 111 Grand Avenue, Oakland, CA 94612. Office hours: Monday through Friday 8:00 a.m.-4:30 p.m. Contact information: zachary.gifford@dot.ca.gov, 510-286-5610. For FHWA, contact David Tedrick at (916) 498-5024 or email david.tedrick@dot.gov.

SUPPLEMENTARY INFORMATION: Effective July 1, 2007, the FHWA assigned, and Caltrans assumed, environmental responsibilities for this project pursuant to 23 U.S.C. 327. Notice is hereby given that Caltrans has taken final agency actions subject to 23 U.S.C. 139(l)(1) by issuing licenses, permits, and approvals for the following highway project in the State of California: Caltrans proposes to rehabilitate State Route 12 from postmile 20.57 to 26.41 in Solano County near the town of Rio Vista. Anticipated work includes repairing roadway pavement cracking and upgrading non-standard shoulders, travel lanes, vertical sight distances, cross slopes, and drainage systems. Additionally, the project will address flooding issues and upgrade the American with Disabilities (ADA) facilities. All work will improve ride quality, enhance safety, and extend the service life of the pavement. The actions by the Federal agencies, and the laws under which such actions were taken, are described in the Final Environmental Assessment (FEA) and Finding of No Significant Impact (FONSI) for the project, approved on October 4, 2019, and in other documents in the Caltrans' project records. The FEA, FONSI, and other project records are available by contacting Caltrans at the addresses provided above. The Caltrans FEA and FONSI can be viewed and downloaded from the project website at https://dot.ca.gov/caltrans-near-me/district-4/d4-popular-links/d4-environmental-docs.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Wildlife: Endangered Species Act [16 U.S.C. 1531-1544 and Section 1536]; Fish and Wildlife Coordination Act [16 U.S.C. 661-667(d)]; Migratory Bird Treaty Act 16 U.S.C. 703-712].

4. Historic and Cultural Resources: Section 106 of the National Historic Preservation Act of 1966, as amended [16 U.S.C. 470(f) et seq.]; Historic Sites Act of 1935 [16 U.S.C. 461-467].

5. Wetlands and Water Resources: Clean Water Act (Section 404 and Section 401) [33 U.S.C. 1251-1377]; Safe Drinking Water Act (SDWA) [42 U.S.C. 300(f)-300(j)(6)].

6. Social and Economic: Civil Rights Act of 1964 [42 U.S.C. 2000(d)-2000(d)(1)].

7. Health: Resource Conservation and Recovery Act [42 U.S.C. 6901 et seq.]; Comprehensive Environmental Response, Compensation, and Liability Act [42 U.S.C. 9601 et seq.]; Atomic Energy Act [42 U.S.C. 2011-2259]; Toxic Substance Control Act [15 U.S.C. 2601-2629]; Community Environmental Response Facilitation Act; Occupational Safety and Health Act [29 U.S.C. 651]; Federal Insecticide, Fungicide, and Rodenticide Act [7 U.S.C. 136].

8. Executive Orders: E.O 12088 Federal Compliance with Pollution Control Standards; E.O. 12898 Federal Actions to Address Environmental Justice in Minority Populations and Low-Income Populations; E.O 13112 Invasive Species; E.O. 11988 Floodplain Management.

(Catalog of Federal Domestic Assistance Program Number 20.205, Highway Planning and Construction. The regulations implementing Executive Order 12372 regarding intergovernmental consultation on Federal programs and activities apply to this program.)

Authority: 23 U.S.C. 139(l)(1).

Issued on: December 9, 2019.
Tashia J. Clemons,
Director, Planning and Environment, Federal Highway Administration, California Division.

[FR Doc. 2019-27023 Filed 12-13-19; 8:45 am]

BILLING CODE 4910-RY-P